NUCLEAR REGULATORY COMMISSION

[NRC-2009-0511]

Proposed Generic Communications; Inservice Inspection and Testing Requirements of Dynamic Restraints (SNUBBERS)

AGENCY: Nuclear Regulatory Commission.

ACTION: Notice of opportunity for public comment.

SUMMARY: The U.S. Nuclear Regulatory Commission (NRC or Commission) is proposing to issue this draft regulatory issue summary (RIS) to remind licensees of the requirements for the inservice inspection (ISI) and testing of dynamic restraints (snubbers) under 10 CFR 50.55a(g) and 10 CFR 50.55a(b)(3)(v). This RIS requires no action or written response on the part of an addressee.

DATES: Comment period expires January 11, 2010. Comments submitted after this date will be considered if it is practical to do so, but assurance of consideration cannot be given except for comments received on or before this date.

ADDRESSES: You may submit comments by any one of the following methods. Please include Docket ID NRC-2009-0511 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0511. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2009-0511.

FOR FURTHER INFORMATION CONTACT: Gurjendra S. Bedi, NRR/DCI/CPTB, at 301-415-1393 or by e-mail at Gurjendra.Bedi@nrc.gov

SUPPLEMENTARY INFORMATION:

NRC Regulatory Issue Summary 2009-XX; Inservice Inspection and Testing Requirements of Dynamic Restraints (SNUBBERS)

Addressees

All holders of operating licenses for nuclear power reactors under the provisions of Title 10 of the Code of Federal Regulations (10 CFR) part 50, “Domestic Licensing of Production and Utilization Facilities,” except those who have permanently ceased operations and have certified that fuel has been permanently removed from the reactor vessel.

All holders of, and applicants for, nuclear power plant construction permits, early site permits, and limited work authorizations for nuclear power reactors under the provisions of 10 CFR part 50.

Intent

The U.S. Nuclear Regulatory Commission (NRC or Commission) is issuing this regulatory issue summary (RIS) to remind licensees of the requirements for the inservice inspection (ISI) and testing of dynamic restraints (snubbers) under 10 CFR 50.55a(g) and 10 CFR 50.55a(b)(3)(v). This RIS requires no action or written response on the part of an addressee.

Background

The regulations at 10 CFR 50.55a(b) detail the Codes and standards that have been approved for inclusion in 10 CFR part 50, including the effective edition and addenda of the American Society of Mechanical Engineer (ASME) Boiler and Pressure Vessel (BPV) Code and the ASME Code for Operation and Maintenance of Nuclear Power Plants (OM Code).

The regulations at 10 CFR 50.55a(g) establish the ISI requirements that licensees must use when performing ISI of components (including supports). 10 CFR 50.55a(g)(4) states, “Throughout the service life of a boiling or pressurized water-cooled nuclear power facility, components (including supports) which are classified as ASME Code Class 1, Class 2, and Class 3 must meet the requirements, except design and access provisions and preservice examination requirements, set forth in Section XI of editions of the ASME BPV Code and addenda.” ASME Section XI provides the rules for ISI of nuclear power plant components.

The regulation at 10 CFR 50.55a(g)(4)(ii) requires the use of the latest edition and addenda of the Code that has been incorporated by reference 12 months prior to the beginning of each 120-month inspection interval. This Code is considered the “Code of Record” for the inspection interval.

The regulation at 10 CFR 50.55a(g)(4)(iv) states that ISI of components (including supports) may meet the requirements set forth in subsequent editions to the “Code of Record” and addenda that are incorporated by reference in 10 CFR 50.55a(b), subject to limitations and modifications listed in 10 CFR 50.55a(b) and subject to Commission approval.

The regulations at 10 CFR 50.55a(g) require ISI of components (including supports) without specifically mentioning “snubbers.” Consequently, confusion resulted and some licensees mistakenly believed that ISI and testing of snubbers is not a regulatory requirement. The NRC clarified, in the final rule dated September 22, 1999, [(Volume 64 of the Federal Register, pages 51370, 51388-89 (64 FR 51370, 51388-89)], that testing of snubbers is a regulatory requirement and has been for many years.

The regulations at 10 CFR 50.55a(g)(4) require that ASME Code Class 1, 2, and 3 components (including supports) meet the ISI requirements of ASME Code Section XI. Article IWF-5000, “Inservice Inspection Requirements for Snubbers,” of ASME Code Section XI provides requirements for the examination and testing of snubbers in nuclear power plants. Therefore, inservice examination and testing of snubbers are required by 10 CFR 50.55a because it incorporates by reference ASME Section XI requirements, including Article IWF-5000. Article IWF-5000 has required the ISI and testing of snubbers since the first issuance of Subsection IWF in the Winter 1978 Addenda of ASME Section XI, which was incorporated in 10 CFR 50.55a in January 1982. Before ASME Section XI incorporated snubber examination and testing requirements, licensees used snubber examination and testing requirements as defined in their plants' TS.

Improved Standard TS for various boiling and pressurized water-cooled nuclear power plants (NUREG-1430 thru 1434, Revision 3, published in June 2004) allow relocating inservice examination and testing requirements of snubbers from the TS to a plant's Technical Requirements Manual (TRM). However, relocating snubber ISI and testing requirements from the TS to TRM does not eliminate the need to comply with the 10 CFR 50.55a requirements.

For plants using their TS to govern ISI and testing of snubbers, 10 CFR 50.55a (g)(5)(ii) requires that if a revised ISI program for a facility conflicts with the TS, the licensee shall apply to the Commission for amendment of the TS to conform the TS to the revised program. Therefore, when performing 120-month ISI program updates in accordance with 10 CFR 50.55a (g)(4), licensees must submit any required amendments to ensure their TS remain consistent with the new code of record or NRC-approved alternative used in lieu of the Code requirements. The TS governing the snubber ISI and test program do not eliminate the 10 CFR50.55a requirements to update the program at 120-month intervals or to request and receive NRC authorization for alternatives to the Code requirements when appropriate.

The 2004 edition of ASME Section XI and the ASME OM Code are incorporated in 10 CFR 50.55a (Industry Codes and Standards; Amended Requirements, 73 FR 52730; September 10, 2008). Article IWF-5000 of the ASME BPV Code, Section XI, 2004 Edition, requires preservice and inservice examinations and testing of snubbers at nuclear power plants as part of the licensee's ISI program in accordance with ASME/American National Standards Institute Standard for Operation and Maintenance of Nuclear Power Plants, Part 4 (OM-4), 1987 Edition with OMa-1988 Addenda.

The regulation at 10 CFR 50.55a(b)(3)(v) allows the optional use of Subsection ISTD, “Preservice and Inservice Examination and Testing of Dynamic Restraint (Snubbers) in Light-Water Reactor Nuclear Power Plants,” of the ASME OM Code-1995 Edition through the latest edition and addenda incorporated by reference in 10 CFR 50.55a(b)(3) in lieu of ASME Section XI, Articles IWF-5200(a) and (b) and IWF-5300(a) and (b) by making appropriate changes to TS or licensee-controlled documents. The regulation at 10 CFR 50.55a(b)(3)(v) also states, “Preservice and inservice examination must be performed using the VT-3 visual examination method described in IWA-2213.”

Licensees shall perform the ISI and testing of snubbers in accordance with ASME Section XI or the OM Code and the applicable addenda as required by 10 CFR 50.55a(g) or 10 CFR 50.55a(b)(3)(v), except where the NRC has granted specific written relief, pursuant to 10 CFR 50.55a(g)(6)(i), or authorized alternatives pursuant to 10 CFR 50.55a(3). The regulation at 10 CFR 50.55a(a)(3) states that licensees may use alternatives to the requirements of 10 CFR 50.55a(g) when authorized by the NRC if (1) the proposed alternatives would provide an acceptable level of quality and safety, or (2) compliance with the specified requirements would result in hardship or unusual difficulty without a compensating increase in the level of quality and safety.

Licensees have the option to control the ASME Code-required examination and testing of snubbers through their plant's TS or other licensee-controlled documents (i.e., TRM etc.). However, when these documents represent an alternative to the code requirements incorporated by reference in 10 CFR 50.55a, they must be authorized by the NRC, pursuant to 10 CFR 50.55a(a)(3), on a case by case basis. As stated in 10 CFR 50.55a(a)(3), the use of an alternative in lieu of the Code requirements is subject to Commission approval. Additionally, plant TS may require updating in accordance with 10 CFR 50.55a(g)(5)(ii) if needed to conform them to the program that is in effect for the 120-month ISI interval.

Discussion

The staff has identified several instances in which nuclear power plant licensees have used a TRM, or other licensee-controlled documents and procedures which do not meet requirements of the “Code of Record” for the ISI and testing of snubbers without requesting approval to use these alternatives from the Commission. The staff is issuing this RIS to remind licensees that they must submit a request and receive NRC approval to use an alternative to control the examination and testing of snubbers through their plants licensee-controlled documents (i.e., TRM etc.), when they represent a departure from and are used in lieu of the ASME Section XI or OM Code requirements.

The regulation at 10 CFR 50.55a requires ISI of components (including supports) in accordance with ASME Section XI or OM Code requirements. The use of a TRM, or any other licensee-controlled documents that represent a departure from the Code requirements for snubber ISI and testing requires NRC approval. The use of alternatives in lieu of the Code requirements is addressed in 10 CFR 50.55a(a)(3). When requesting authorization to use an alternative, licensees must demonstrate the proposed alternative would provide an acceptable level of quality and safety, or they must demonstrate why compliance with the Code requirement would result in hardship or unusual difficulty without a compensating increase in the level of quality and safety.

In addition, for licensees using plant TS to control snubber examination and testing, the requirement to perform 10-year program updates in accordance with 10 CFR 50.55a(g)(4) still exists. If the TS represent an alternative to the requirements of the code edition and addenda specified in 10 CFR 50.55a(b) that is to be used for the ISI interval, licensees are required to request authorization from the NRC to use the alternative in accordance with 10 CFR 50.55a(a)(3). The regulation at 10 CFR 50.55a(g)(5)(ii) also requires that a licensee apply for an amendment to conform the TS to the revised program in cases where there is a conflict between the revised program and the TS.

Some licensees mistakenly concluded that the ISI and testing of snubbers is not a 10 CFR 50.55a regulatory requirement, because 10 CFR 50.55a requires ISI of components (including supports) without specifically mentioning snubbers and since snubber examination and testing was historically covered by a plant's TS. The resulting confusion led some licensees to believe that they do not need to request NRC approval to use an alternative (i.e., TS, TRM, or other licensee-controlled documents) in lieu of the Code requirements. The Commission has clarified, however, that snubber inspection and testing is a regulatory requirement.

Typically, if licensees use TS, TRM, or any other licensee-controlled documents which represent a departure from the ASME Code requirements for the ISI and testing of snubbers, they would submit an alternative for NRC approval as required by 10 CFR 50.55a(a)(3). The authorized alternative becomes a regulatory requirement that may be used in lieu of ASME Section XI or OM Code requirements for performing the ISI and testing of snubbers. The NRC staff must review and approve changes to these requirements for authorization under 10 CFR 50.55a(a)(3) or as an exemption under 10 CFR 50.12, “Specific Exemptions.” Alternatives requested and authorized pursuant to 10 CFR 50.55a(a)(3) are only valid for that particular 10-year ISI interval, unless specifically authorized for a different period in the associated NRC safety evaluation. In a subsequent 10-year ISI interval, licensees must resubmit an alternative for NRC staff review and approval if they choose not to adopt the ASME Code edition and addenda specified in the regulations for snubber examination and testing. In addition, for program changes that create a conflict with the plant TS, the licensee shall apply for an amendment to conform the TS to the program in accordance with 10 CFR 50.55a(g)(5)(ii).

Backfit Discussion

This RIS reminds stakeholders of existing regulatory requirements within 10 CFR 50.55a(b) and 10 CFR 50.55a(g) for the ISI and testing of dynamic restraints (snubbers). This RIS does not represent a new or different staff position about the implementation of 10 CFR 50.55a. This RIS reminds addressees of the need to request NRC approval for the use of TS, TRM, or other licensee-controlled documents in lieu of the ASME Code requirements as required by 10 CFR 50.55a(a)(3). It requires no action or written response beyond what is required in 10 CFR 50.55a. Any action that addressees take to implement procedural or inspection changes in accordance with the information in this RIS ensures compliance with current regulations; and therefore, is not a backfit under 10 CFR 50.109, “Backfitting” and specifically the exception provided for in 10 CFR 50.109(a)(4)(i). Consequently, the NRC staff did not perform a backfit analysis.

Federal Register Notification

To be done after the public comments periods.

Congressional Review Act

This RIS is not a rule as designated by the Congressional Review Act (5 U.S.C. 801-886) and; therefore, is not subject to the Act.

Paperwork Reduction Act Statement

This RIS does not contain any information collections and; therefore, is not subject to the requirements of the Paperwork Reduction Act of 1995 (44 U.S.C. 3501 et seq.)

Contact

Please direct any questions about this matter to Gurjendra S. Bedi, NRR/DCI/CPTB, at 301-415-1393 or by e-mail at Gurjendra.Bedi@nrc.gov

End of Draft Regulatory Issue Summary

Documents may be examined, and/or copied for a fee, at the NRC's Public Document Room at One White Flint North, 11555 Rockville Pike (first floor), Rockville, Maryland. Publicly available records will be accessible electronically from the Agencywide Documents Access and Management System (ADAMS) Public Electronic Reading Room on the Internet at the NRC Web site, http://www.nrc.gov/NRC/ADAMS/index.html. If you do not have access to ADAMS or if you have problems in accessing the documents in ADAMS, contact the NRC Public Document Room (PDR) reference staff at 1-800-397-4209 or 301-415-4737 or by e-mail to pdr@nrc.gov.

Dated at Rockville, Maryland, this 19th day of November 2009.
For The Nuclear Regulatory Commission.
Martin C. Murphy,
Chief, Generic Communications Branch, Division of Policy and Rulemaking, Office of Nuclear Reactor Regulation.

[FR Doc. E9-28241 Filed 11-24-09; 8:45 am]

BILLING CODE 7590-01-P